DEPARTMENT OF ENERGY

Federal Energy Regulatory Commission

[Project No. 1889-085, Project No. 2485-071]

FirstLight MA Hydro LLC, Northfield Mountain LLC; Notice of Revised Deadline for Comments on Settlement Agreement

On April 7, 2023, the Commission issued a Notice of Settlement Agreement and Soliciting Comments, setting a comment deadline of May 7, 2023, and a reply comment deadline of May 22, 2023. Subsequent to issuance of the Notice, Commission staff sent a request to FirstLight MA Hydro LLC and Northfield Mountain LLC for additional information on certain operational and environmental measures stipulated in the settlement agreement, setting a response deadline of May 11, 2023. Because the additional information filing could inform comments on the settlement agreement, the settlement comment deadline is extended to May 26, 2023, and the reply comment deadline is now June 12, 2023.

Dated: May 4, 2023.
Kimberly D. Bose,
Secretary.

[FR Doc. 2023-09940 Filed 5-9-23; 8:45 am]

BILLING CODE 6717-01-P